STATE JUSTICE INSTITUTE

Notice of Public Meeting; State Justice Institute Board of Directors Meeting

Date: Saturday, July 26, 2003, 9 a.m.-5 p.m.

Place: El Caribe Room, Ritz Carlton San Juan, 6961 Avenue of the Governors, Carolina, Puerto Rico.

Matters to be Considered: Consideration of proposals submitted for Institute funding and internal Institute business.

Portions Open to the Public: All portions other than personnel matters and Board committee meetings.

Portions Closed to the Public: Discussion of internal personnel matters and Board committee meetings.

Contact Person: David Tevelin, Executive Director, State Justice Institute, 1650 King Street, Suite 600, Alexandria, VA 22314, (703) 684-6100 x214.

David I. Tevelin,
Executive Director.

[FR Doc. 03-18681 Filed 7-18-03; 10:06 am]

BILLING CODE 6820-SC-M